DEPARTMENT OF LABOR

Office of the Secretary

Submission for OMB Review: Comment Request

June 20, 2006.

The Department of Labor (DOL) has submitted the following public information collection requests (ICR) to the Office of Management and Budget (OMB) for review and approval in accordance with the Paperwork Reduction Act of 1995 (Pub. L. 104-13, 44 U.S.C. chapter 35). A copy of each ICR, with applicable supporting documentation, may be obtained by contacting Darrin King on 202-693-4129 (this is not a toll-free number) or e-mail: king.darrin@dol.gov.

Comments should be sent to Office of Information and Regulatory Affairs, Attn: OMB Desk Officer for the Mine Safety and Health Administration (MSHA), Office of Management and Budget, Room 10235, Washington, DC 20503, 202-395-7316 (this is not a toll-free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Mine Safety and Health Administration.

Type of Review: Extension of currently approved collection.

Title: Miner Operator Dust Cards.

OMB Number: 1219-0011.

Frequency: On occasion and bi-monthly.

Type of Response: Recordkeeping; Reporting; and Third party disclosure.

Affected Public: Business or other for-profit.

Number of Respondents: 950.

Estimated Number of Annual Responses: 41,100.

Average Response Time: Varies by task.

Estimated Annual Burden Hours: 32,875.

Total Annualized capital/startup costs: $0.

Total Annual Costs (operating/maintaining systems or purchasing services): $2,989,172.

Description: 30 CFR 70.201(c), 71.201(c), and 90.201(c), authorizes the District Manager to require the mine operator to submit the dates(s) when sampling will begin. Only a certified person is allowed to conduct the respirable dust sampling required by these parts.

Sections 70.202(b), 71.202(b), and 90.202(b), requires that the person must pass the MSHA examination on sampling of respirable coal mine dust.

Sections 70.220(a), 71.220(a), and 90.220(a), requires the operator to report status changes to MSHA in writing within 3 working days after the status change has occurred.

Sections 70.209, 71.209, and 90.209, requires persons who are certified by MSHA to take respirable dust samples to complete the dust data card that accompanies each sample being submitted for analysis.

Sections 71.300 and 90.300 require a coal mine operator to submit to MSHA for approval a written respirable dust control plan within 15 calendar days after the termination date of a citation for violation of the applicable dust standard.

Section 71.301(d) requires the respirable dust control plan to be posted on the mine bulletin board, however, 90.301(d) prohibits posting of the dust control plan for P-90 miners and, instead, requires a copy be provided to the affected P-90 miner.

Prolonged exposure to excessive amounts of respirable coal mine dust can cause respiratory problems, ranging from mild impairment of respiratory function to more severe diseases such as coal workers' pneumoconiosis (CWP) and silicosis. These diseases are debilitating, and in severe cases, disabling and fatal.

The information provided by the mine operator on the dust data card that accompanies each dust sample submitted to MSHA for processing; the reporting of when such samples will be taken when District Manager requests; and the reporting of any changes in operation status affecting sampling, is vital to effectively administer and assess the effectiveness of the operator sampling program. MSHA has used the information received from the current collection not only to determine which mine operators have fully complied with the sampling provisions stipulated in the regulations but also which failed to adequately protect miners from excessive dust concentrations and needed to take appropriate measures to improve the quality of the mine air that miners breathe. Also, once the dust samples submitted by coal mine operators are processed by MSHA, it uses the collected information for reporting the results of respirable dust samples to the appropriate mine operators under §§ 70.210(a), 71.210(a) and 90.210(a), so that the results can be posted on the mine bulletin board for viewing by all miners as required by §§ 70.210(b) and 71.210(c). These results enable the Agency to more effectively evaluate the effectiveness of the operator's dust control systems, to better identify which particular operators should be targeted for compliance assistance efforts, and to plan and undertake special health emphasis initiatives.

Mine operators whose samples exceed the applicable standard are either notified to submit additional samples (involving DA, DWP, or P-90 miner entity types only) or are cited for violating the applicable standard. As discussed earlier, once cited by MSHA, the operator must promptly take corrective action and then submit five abatement samples to demonstrate that dust levels have been reduced within the applicable standard.

Once a respirable dust control plan, submitted in accordance with either § 71.300 or 90.300, is approved by MSHA, its provisions must be employed and complied with on a continuous basis. Posting of the plan in accordance with § 71.301(d) allows the affected miners to acquaint themselves with the types and locations of dust control measures that are required to be employed and maintained. MSHA inspectors use the information provided in the plan to determine whether the operator is complying with all plan provisions, and to assess the plan's continued effectiveness in maintaining compliance with the applicable standard.

Agency: Mine Safety and Health Administration.

Type of Review: Extension of currently approved collection.

Title: Underground Retorts.

OMB Number: 1219-0096.

Frequency: On occasion.

Type of Response: Reporting.

Affected Public: Business or other for-profit.

Number of Respondents: 1.

Estimated Number of Annual Responses: 1.

Average Response Time: 160 hours.

Estimated Annual Burden Hours: 160.

Total Annualized capital/startup costs: $0.

Total Annual Costs (operating/maintaining systems or purchasing services): $0.

Description: This regulation pertains to the safety requirements to be followed by the mine operators in the use of underground retorts to extract oil from shale by heat or fire. Prior to ignition of retorts, the mine operator must submit a written plan indicating the acceptable levels of combustible gases and oxygen; specifications and location of off-gas monitoring procedures and equipment; procedures for ignition of retorts and details of area monitoring and alarm systems for hazardous gases and actions to be taken to assure safety of miners.

Plans for operating retorts are required because the retort process involves the use of fire in an underground mine in which hazardous gases may be present. Approved retort plans are monitored by MSHA to ensure that combustible gases are kept at acceptable levels and do not expose the miners to explosive or other hazardous conditions.

Ira L. Mills,
Departmental Clearance Officer.

[FR Doc. E6-10177 Filed 6-27-06; 8:45 am]

BILLING CODE 4510-43-P